DEPARTMENT OF COMMERCE

National Oceanic and Atmospheric Administration

Notice of Intent To Prepare an Environmental Impact Statement on the Issuance of Take Authorizations in Cook Inlet, Alaska

AGENCY: National Marine Fisheries Service (NMFS), National Oceanic and Atmospheric Administration (NOAA), Commerce.

ACTION: Notice; request for comments.

SUMMARY: The National Marine Fisheries Service (NMFS) announces its intent to prepare an Environmental Impact Statement (EIS) to analyze the environmental impacts of issuing Incidental Take Authorizations (ITAs) pursuant to the Marine Mammal Protection Act (MMPA) for the taking of marine mammals incidental to anthropogenic activities in the waters of Cook Inlet, Alaska. NMFS will hold a public scoping meeting to begin the scoping process.

DATES: All comments, written statements, and questions regarding the scoping process and preparation of the EIS must be received no later than December 29, 2014.

ADDRESSES: You may submit comments and statements regarding the scoping for this EIS, identified by NOAA-NMFS-2014-0129, by any of the following methods:

• Electronic Submission: Submit all electronic public comments via the Federal e-Rulemaking Portal www.regulations.gov. To submit comments via the e-Rulemaking Portal, enter NOAA-NMFS-2014-0129 in the keyword search. Locate the document you wish to comment on from the resulting list and click on the “Comment Now” icon on the right of that line.

• Mail: Jolie Harrison, Chief, Permits and Conservation Division, Office of Protected Resources, NMFS, 1315 East-West Highway, Silver Spring, MD 20910.

• Fax: (301) 713-0376, Attn: Jolie Harrison.

• Public Meeting: Oral and written comments will be accepted during the upcoming public scoping meeting on Monday, November 3, 2014. See SUPPLEMENTARY INFORMATION, Public Meetings for more information.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel or Adobe PDF file formats only. We request that you include background documents to support your comments as appropriate.

FOR FURTHER INFORMATION CONTACT: Jolie Harrison, Office of Protected Resources, NMFS, at (301) 427-8401.

SUPPLEMENTARY INFORMATION:

Background

Sections 101 (a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment for a period of one year or less, a notice of proposed authorization is provided to the public for review. The term “take” under the MMPA means “to harass, hunt, capture or kill, or attempt to harass, hunt, capture, or kill.” Except with respect to certain activities not pertinent here, the MMPA defines “harassment” as “any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].”

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “an impact resulting from the specified activity that cannot be reasonably expected to, and is not reasonably likely to, adversely affect the species or stock through effects on annual rates of recruitment or survival.”

Geographic Area To Be Considered

For the purposes of this EIS, NMFS intends to analyze the effects on the human environment of issuing authorizations for the incidental take of marine mammals from activities occurring in both the state and Federal waters of Cook Inlet, AK, from Knik Arm in the northern part of the Inlet to the southern edge of Kachemak Bay on the southeastern part of the Inlet and to the southern edge of Cape Douglas on the southwestern part of the Inlet.

Objectives of the EIS

NMFS prepares environmental analyses under the National Environmental Policy Act (NEPA) to support the issuance of ITAs for specific activities under sections 101(a)(5)(A) and (D) of the MMPA. This programmatic EIS will analyze the potential effects on the human environment of issuing MMPA ITAs for various anthropogenic activities in Cook Inlet. An EIS that analyzes multiple activities over multiple years will provide a comprehensive decision-support tool for NMFS, allowing us to address cumulative effects over a longer time frame, consider a wider range of reasonable alternatives consistent with our statutory mandates, and analyze a wider range of practicable mitigation and monitoring measures for protecting marine mammals and the availability of marine mammals for subsistence uses.

Anthropogenic activities are prevalent in Cook Inlet, and there are indications that the level of activities may increase in the coming years. Additionally, NMFS continues to be concerned about the lack of recovery of the small resident population of Cook Inlet beluga whales, which is both depleted under the MMPA and listed as endangered under the Endangered Species Act (ESA). Preparation of an EIS, which will allow for a more comprehensive analysis of alternatives and mitigation and monitoring measures, will not only achieve greater administrative efficiency for NMFS' ITA program but will increase NMFS' options and flexibility for processing MMPA ITA requests in the region while ensuring compliance with MMPA, ESA, and NEPA mandates. NMFS has determined that the preparation of such an EIS will provide the best decision support tool for processing MMPA ITA requests in Cook Inlet.

Types of Information Requested

NMFS invites the participation of Federal agencies, State of Alaska, local, and tribal government entities, Native American and Native Alaskan organizations, environmental and fish and wildlife organizations, the oil and gas industry, non-energy industries, other interested organizations and entities, and the general public, for use in the preparation of this EIS. To help us determine the scope and the significant issues to be analyzed in depth in the EIS, NMFS is seeking a wide array of information about: (1) The ecological, social, and economic environments and values in Cook Inlet, Alaska; (2) the potential impact of various types of human activities in Cook Inlet (e.g., oil and gas exploration and development, construction, port redevelopment projects, etc.) on the marine, coastal and human environments; (3) subsistence activities and uses of marine mammals in Cook Inlet; (4) the acoustic environment in Cook Inlet; (5) proposed and upcoming projects within Cook Inlet; (6) ways to assess, mitigate, minimize, and monitor impacts of activities on marine mammals (especially beluga whales) and their habitats (including prey species); and (7) any other relevant information.

Public Meetings

We will hold a public scoping meeting in Anchorage, AK, on Monday, November 3, 2014, from 6:00 to 8:00 p.m. at the Loussac Library's Wilda Marston Theater located at 3600 Denali Street, Anchorage, AK 99503. Written and oral comments will be accepted at the public meeting.

Dated: October 7, 2014.
Donna S. Wieting,
Director, Office of Protected Resources, National Marine Fisheries Service.

[FR Doc. 2014-24317 Filed 10-10-14; 8:45 am]

BILLING CODE 3510-22-P